DEPARTMENT OF TRANSPORTATION

Federal Aviation Administration

14 CFR Part 71

Proposed Modification of the San Diego, CA, Class B Airspace Area; Public Meetings

AGENCY: Federal Aviation Administration (FAA), DOT.

ACTION: Notice of meetings.

SUMMARY: This notice announces three fact-finding informal airspace meetings to solicit information from airspace users and others concerning a proposal to amend the Class B airspace area at San Diego, CA. The purpose of these meetings is to provide interested parties an opportunity to present views, recommendations, and comments on the proposal. All comments received during these meetings will be considered prior to any revision or issuance of a notice of proposed rulemaking.

DATES: The meetings will be held on Tuesday, June 28, 2016, at 6:00 p.m.; Wednesday, June 29, 2016, at 6:00 p.m.; and Thursday, June 30, 2016, at 6:00 p.m. Doors open 30 minutes prior to the beginning of each meeting. Comments must be received on or before August 15, 2016.

ADDRESSES: All meetings will be held at San Diego International Airport, Commuter Airport Terminal, 3225 North Harbor Drive, San Diego, CA 92101.

Comments: Send comments on the proposal, in triplicate, to: Tracey Johnson, Manager, Operations Support Group, Western Service Center, Air Traffic Organization Federal Aviation Administration, 1601 Lind Avenue SW., Renton, WA 98057, or by fax to (425) 203-4505.

FOR FURTHER INFORMATION CONTACT: Brian Fagan, FAA Support Manager, Southern California TRACON, 9175 Kearny Villa Rd, San Diego, CA 92126, (858) 537-5830.

SUPPLEMENTARY INFORMATION:

Meeting Procedures

(a) The meetings will be informal in nature and will be conducted by one or more representatives of the FAA Western Service Center and Southern California TRACON. A representative from the FAA will present a briefing on the planned modification to the Class B airspace at San Diego, CA. Each participant will be given an opportunity to deliver comments or make a presentation, although a time limit may be imposed. Only comments concerning the plan to modify the San Diego Class B airspace will be accepted.

(b) The meetings will be open to all persons on a space-available basis. There will be no admission fee to attend and participate. Parking will be validated. Attendees needing parking validation should bring their parking stub to the meeting.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (three copies total) to the presiding officer. There should be additional copies of each handout available for other attendees.

(e) These meetings will not be formally recorded. However, a summary of comments made at the meeting will be filed in the docket.

Agenda for the Meetings

—Sign-in

—Presentation of Meeting Procedures

—Informal Presentation of the Planned Class B Airspace Area Modifications

—Solicitation of Public Comments

—Stations of Interest on Class B airspace area modification

—Drop box for written comments

Authority: 49 U.S.C. 106(f), 106(g); 40103, 40113, 40120; E.O.10854, 24 FR 9565, 3 CFR, 1959-1963 Comp., p. 389.

Issued in Washington, DC, on April 4, 2016.
Gemechu Gelgelu,
Acting Manager, Airspace Policy Group.

[FR Doc. 2016-08124 Filed 4-7-16; 8:45 am]

BILLING CODE 4910-13-P